DEPARTMENT OF TRANSPORTATION

Federal Aviation Administration

14 CFR Part 39

[Docket No. FAA-2005-21092; Directorate Identifier 2005-CE-20-AD; Amendment 39-14118; AD 2005-12-02]

RIN 2120-AA64

Airworthiness Directives; Revo, Incorporated Models Colonial C-2, Lake LA-4, Lake LA-4A, Lake LA-4P, and Lake LA-4-200 Airplanes

AGENCY: Federal Aviation Administration (FAA), DOT.

ACTION: Final rule; request for comments.

SUMMARY: The FAA is adopting a new airworthiness directive (AD) to supersede Airworthiness Directive (AD) 98-10-12, which applies to all Revo, Incorporated (REVO) (Type Certificate 1A13 formerly held by Colonial Aircraft Company, Lake Aircraft Corporation, Consolidated Aeronautics, Inc., and Global Amphibians LLC) Models Colonial C-2, Lake LA-4, Lake LA-4A, Lake LA-4P, and Lake LA-4-200 airplanes. AD 98-10-12 currently requires you to ensure adequate clearance between the attachment fitting and the horizontal stabilizer rear beam and between the attachment fitting and the stabilizer skin with inspections, possible replacement, and adjustments as necessary. This new AD is the result of several reports of fatigue cracks found in the horizontal stabilizer attachment fitting (part number 2-2200-21) of Model LA-4-200 airplanes that were in compliance with AD 98-10-12. This includes an airplane accident with a fatality attributed to a fatigue crack in the horizontal stabilizer attachment fitting. Consequently, this AD requires either a dye penetrant inspection of the horizontal stabilizer attachment fitting for any evidence of fretting, cracking, or corrosion (with necessary replacement and modification) or replacement of the fittings depending on the number of operational hours on the fitting. The AD also requires you to repetitively replace the fitting every 850 hours time-in-service (TIS), repetitively inspect (visually) the fittings between replacement times, and report to FAA the results of the initial inspection and any cracks found on repetitive inspections. We are issuing this AD to detect, correct, and prevent future cracks in the horizontal stabilizer attachment fitting, which could result in failure of the horizontal stabilizer attachment fitting. This failure could result in loss of control of the airplane.

DATES: This AD becomes effective on July 8, 2005.

As of July 8, 2005, the Director of the Federal Register approved the incorporation by reference of certain publications listed in the regulation.

We must receive any comments on this AD by August 8, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Revo, Incorporated, 1396 Grandview Boulevard, Kissimmee, FL 34744.

To view the comments to this AD, go to http://dms.dot.gov. The docket number is FAA-2005-21092; Directorate Identifier 2005-CE-20-AD.

FOR FURTHER INFORMATION CONTACT: Cindy Lorenzen, Aerospace Engineer, FAA, Atlanta Aircraft Certification Office, 1895 Phoenix Boulevard, suite 450, Atlanta, Georgia 30349; telephone: (770) 703-6078; facsimile: (770) 703-6097.

SUPPLEMENTARY INFORMATION: Has FAA taken any action to this point? A report of loss of control on a Revo, Incorporated (REVO) Lake LA-4 series airplane during flight caused us to issue AD 98-10-12, Amendment 39-10524 (63 FR 26964, May 15, 1998). AD 98-10-12 currently requires the following on all REVO (Type Certificate 1A13 formerly held by Colonial Aircraft Company, Lake Aircraft Corporation, Consolidated Aeronautics, Inc., and Global Amphibians LLC) Models Colonial C-2, Lake LA-4, Lake LA-4A, Lake LA-4P, and Lake LA-4-200 airplanes:

• Measuring for a clearance of 5/32 of an inch between the attachment fitting and the horizontal stabilizer rear beam.

• If this minimum measurement is not met, removing the affected horizontal tail half from the airplane and inspecting the attachment fitting for any evidence of fretting, cracking, or corrosion.

• If cracks, fretting, or corrosion are/is present, replacing the attachment fitting with a new fitting, ensuring a clearance of 1/16 of an inch exists between the attachment fitting, and, if needed, trimming the stabilizer skin to provide a positive clearance for the fitting.

What has happened since AD 98-10-12 to initiate this AD action? The FAA has received more reports of fatigue cracks found in the horizontal stabilizer attachment fitting (part number (P/N) 2-2200-21) of REVO Model LA-4-200 airplanes. These airplanes were in compliance with AD 98-10-12. This includes one report of a REVO Model LA-4-200 airplane accident with a fatality attributed to a fatigue crack in the horizontal stabilizer attachment fitting.

The cracks occurred with as little as 942 hours time-in-service (TIS) on the horizontal stabilizer attachment fitting.

What is the potential impact if FAA took no action? Failure of the horizontal stabilizer attachment fitting (P/N 2-2200-21) could result in loss of control of the airplane.

Is there service information that applies to this subject? REVO has issued Service Bulletin B-78, dated April 3, 1998.

What are the provisions of this service information? The service bulletin includes procedures for:

—Removing the fitting and inspecting (both visual and dye penetrant) for cracks, fretting, or corrosion;

—Replacing the attachment fitting with a new fitting;

—Measuring the gap between the attachment fitting and the horizontal stabilizer skin for proper clearance; and

—Trimming the stabilizer skin to provide proper clearance.

FAA's Determination and Requirements of the AD

What has FAA decided? We have evaluated all pertinent information and identified an unsafe condition that is likely to exist or develop on other products of this same type design.

Since the unsafe condition described previously is likely to exist or develop on other REVO (Type Certificate 1A13 formerly held by Colonial Aircraft Company, Lake Aircraft Corporation, Consolidated Aeronautics, Inc., and Global Amphibians LLC) Models Colonial C-2, Lake LA-4, Lake LA-4A, Lake LA-4P, and Lake LA-4-200 airplanes of the same type design, we are issuing this AD to detect, correct, and prevent future cracks in the horizontal stabilizer attachment fitting (P/N 2-2200-21), which could result in failure of the horizontal stabilizer attachment fitting. This failure could result in loss of control of the airplane.

What does this AD require? This AD supersedes AD 98-10-12 by requiring the following:

• Dye penetrant inspection of the horizontal stabilizer attachment fitting for any evidence of fretting, cracking, or corrosion (with necessary replacement and modification) for those airplanes with less than 825 hours TIS on the fitting;

• Replacement of the fittings for those airplanes with 825 or more hours TIS on the fittings;

• Repetitive replacement of the fitting every 850 hours time-in-service (TIS);

• Repetitive visual inspections of the fitting every 50 hours TIS (or at the next annual inspection) between the fitting replacements; and

• Submittal of a report to FAA on the findings of the initial inspection and report of any cracks found for the repetitive inspections.

In preparing this rule, we contacted type clubs and aircraft operators to get technical information and information on operational and economic impacts. As a result of this contact, we received a report of an additional airplane with a crack in the fitting. This airplane had 942 hours total TIS. Consequently, we adjusted the compliance times in the AD based on this information.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-21092; Directorate Identifier 2005-CE-20-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket FAA-2005-21092; Directorate Identifier 2005-CE-20-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-10-12, Amendment 39-10524 (63 FR 26964, May 15, 1998), and by adding a new AD to read as follows:

2005-12-02 Revo, Incorporated (Type Certificate 1A13 formerly held by Colonial Aircraft Company, Lake Aircraft Corporation, Consolidated Aeronautics, Inc., and Global Amphibians LLC): Amendment 39-14118; Docket No. FAA-2005-21092; Directorate Identifier 2005-CE-20-AD.

When Does This AD Become Effective?

(a) This AD becomes effective on July 8, 2005.

Are Any Other ADs Affected By This Action?

(b) Yes. This AD supersedes AD 98-10-12; Amendment 39-10524.

What Airplanes Are Affected by This AD?

(c) This AD affects Models Colonial C-2, Lake LA-4, Lake LA-4A, Lake LA-4P, and Lake LA-4-200, all serial numbers, that are certificated in any category.

What is the Unsafe Condition Presented in This AD?

(d) This AD is the result of several reports of fatigue cracks found in the horizontal stabilizer attachment fitting (part number (P/N) 2-2200-21) of Model LA-4-200 airplanes and one report of a Model LA-4-200 airplane accident with a fatality attributed to a fatigue crack in the horizontal stabilizer attachment fitting. We are issuing this AD to detect, correct, and prevent future cracks in the horizontal stabilizer attachment fitting (P/N 2-2200-21), which could result in failure of the horizontal stabilizer attachment fitting. This failure could result in loss of control of the airplane.

What Must I Do To Address This Problem?

(e) To address this problem, you must do the following:

Actions | Compliance | Procedures
(1) For airplanes with 825 hours time-in-service (TIS) or more on any horizontal stabilizer attachment fitting as of July 8, 2005 (the effective date of this AD): (i) Replace the horizontal stabilizer attachment fitting (part number (P/N) 2-2200-21). (ii) If necessary, trim the horizontal stabilizer rear beam doubler flange to provide positive clearance to the fitting. | Within the next 25 hours TIS after July 8, 2005 (the effective date of this AD) Repetitively replace any horizontal stabilizer attachment fitting (P/N 2-2200-21) thereafter following paragraph (e)(3) of this AD | Follow Revo, Inc. Service Bulletin B-78, dated April 3, 1998, paragraphs 2 and 3 of the INSPECTION and REPAIR section and the APPENDIX.
(2) For airplanes with less than 825 hours TIS on any horizontal stabilizer attachment fitting as of July 8, 2005 (the effective date of this AD): (i) Remove the horizontal stabilizer attachment fitting (P/N 2-2200-21) from the airplane and inspect for cracks (using dye penetrant), fretting, or corrosion. To take “already done” credit for this, you must have removed the fitting from the airplane when the inspection was done. | Inspect within the next 25 hours TIS after July 8, 2005 (the effective date of this AD), unless already done. If cracks, fretting, or corrosion is found, replace before further flight after the inspection | Follow Revo, Inc. Service Bulletin B-78, dated April 3, 1998, INSPECTION and REPAIR section and the APPENDIX.
(ii) Replace any horizontal stabilizer attachment fitting if you find any cracks, fretting, or corrosion.
(3) For all airplanes: Repetitively replace the horizontal stabilizer attachment fittings upon accumulating 850 hours TIS on the fittings | Every 850 hours TIS | Follow Revo, Inc. Service Bulletin B-78, dated April 3, 1998, paragraphs 2 and 3 of the INSPECTION and REPAIR section and the APPENDIX.
(4) For all airplanes: Measure the gap between the horizontal skin and the horizontal stabilizer attachment fitting (P/N 2-2200-21). If gap is less than 1/16-inch, trim the skin to provide at least 1/16-inch gap | Before further flight after any replacement of the fitting required by paragraphs (e)(1), (e)(2), and (e)(3) of this AD | Follow Revo, Inc. Service Bulletin B-78, dated April 3, 1998.
(5) For all airplanes: Repetitively inspect (visual) the horizontal stabilizer attachedment fitting using the following procedures (i) Move the elevator as required to see the fitting, ensuring that the aft face of the fitting is visible (ii) Clean the fitting. Pay special attention to the radius edges of the fitting just outboard of the fitting ear (iii) Visually inspect the fitting for cracks using a flashlight (a small magnifying glass or borescope is recommended). Pay special attention again to the radius edges just outboard of the fitting ear. Also, inspect as far forward on the edge that is possible because some cracks progress along the forward face of the fitting that is mostly hidden by the horizontal stabilizer rear beam (iv) Reference the sketch on page 1 of the Service Bulletin B-78 to see where the crack is likely to begin | Repetitively inspect at whichever of the following that occurs first (first repetitive starts after the initial inspection or replacement): • 50 hours TIS; or • the next annual inspection Replace the fitting prior to further flight after any inspection where cracks are found | Follow the procedures presented in the Actions column of this paragraph, including the sketch on page 1 of the Service Bulletin B-78.
(v) Replace the fitting prior to further flight if cracks are found during any of these inspections.
(6) For all airplanes: Report to FAA the results of the initial inspection required by paragraph (e)(2) of this AD even if no damage is found, and report the results of the repetitive inspections required by paragraph (e)(2) of this AD only if cracks are found. The Office of Management and Budget (OMB) approved the information collection requirements contained in this regulation under the provisions of Paperwork Reduction Act of 1980 (44 U.S.C. 3501 and those following sections) and assigned OMB Control Number 2120-0056 | Within 10 days after the inspection required by paragraph (e)(2) or (e)(5) of this AD or within 10 days after July 8, 2005 (the effective date of this AD), whichever occurs later | Send the form (Figure 1 of this AD) to FAA, Atlanta ACO, 1895 Phoenix Boulevard, suite 450, Atlanta, Georgia 30349; telephone: (770) 703-6078; facsimile: (770) 703-6097.
(7) For all airplanes: Do not install used serviceable fittings, unless you know the number of accumulated hours TIS and have inspected following the requirements of paragraph (e)(2) of this AD | As of July 8, 2005 (the effective date of this AD) | Not Applicable.

BILLING CODE 4910-13-P

BILLING CODE 4910-13-C

May I Request an Alternative Method of Compliance?

(f) You may request a different method of compliance or a different compliance time for this AD by following the procedures in 14 CFR 39.19. Unless FAA authorizes otherwise, send your request to your principal inspector. The principal inspector may add comments and will send your request to the Manager, Atlanta Aircraft Certification Office (ACO), FAA. For information on any already approved alternative methods of compliance, contact Cindy Lorenzen, Aerospace Engineer, FAA, Atlanta ACO, 1895 Phoenix Boulevard, suite 450, Atlanta, Georgia 30349; telephone: (770) 703-6078; facsimile: (770) 703-6097.

May I Obtain a Special Flight Permit for the Initial Inspection or Replacement Requirement of This AD?

(g) Yes. Special flight permits are allowed for this AD with these limitations:

(1) Vne reduced to 121 m.p.h. (105 knots); and

(2) No flight into known turbulence.

Does This AD Incorporate Any Material by Reference?

(h) You must do the actions required by this AD following the instructions in Revo, Inc. Service Bulletin B-78, dated April 3, 1998. The Director of the Federal Register approved the incorporation by reference of this service bulletin in accordance with 5 U.S.C. 552(a) and 1 CFR part 51. To get a copy of this service information, contact Revo, Incorporated, 1396 Grandview Boulevard, Kissimmee, FL 34744. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, S.W., Nassif Building, Room PL-401, Washington, DC 20590-001 or on the Internet at http://dms.dot.gov. The docket number is FAA-2005-21092; Directorate Identifier 2005-CE-20-AD.

Issued in Kansas City, Missouri, on June 2, 2005.
Kim Smith,
Acting Manager, Small Airplane Directorate, Aircraft Certification Service.

[FR Doc. 05-11361 Filed 6-9-05; 8:45 am]

BILLING CODE 4910-13-P